FEDERAL COMMUNICATIONS COMMISSION

47 CFR Part 25

[MM Docket No. 93-25; FCC 04-44]

RIN 3060-AF39

Implementation of the Cable Television Consumer Protection and Competition Act of 1992; Direct Broadcast Satellite Public Interest Obligations

AGENCY: Federal Communications Commission.

ACTION: Correcting amendments.

SUMMARY: The Commission is correcting a final rule that appeared in the Federal Register of April 28, 2004 (69 FR 23155). This document corrects typographical errors in the effective date and in the preamble. The corrected effective date appears below.

DATES: The rule published at 69 FR 23155 is effective May 28, 2004, except for §§ 25.701(d)(1)(i), 25.701(d)(1)(ii), 25.701(d)(2), 25.701(d)(3), 25.701(e)(3), 25.701 (f)(6)(i), and 25.701(f)(6)(ii) which contain information collection requirements that have not been approved by OMB. The Federal Communications Commission will publish a document in the Federal Register announcing the effective date.

FOR FURTHER INFORMATION CONTACT: Rosalee Chiara, Federal Communications Commission, Policy Division, Media Bureau, 445 12th St., Washington, DC 20554, (202) 418-0754.

SUPPLEMENTARY INFORMATION: In FR Doc. 04-9170 appearing on page 23155 in the issue of April 28, 2004, the effective date is corrected as set forth above, and in paragraph 18 of the preamble, the references to §§ 75.701(d)(2) and 75.701(d)(3) are corrected to read “25.701(d)(2)” and “25.701(d)(3)”.

Federal Communications Commission.
Marlene H. Dortch,
Secretary.

[FR Doc. 04-14263 Filed 6-22-04; 8:45 am]

BILLING CODE 6712-01-P